ELECTION ASSISTANCE COMMISSION

Meeting Notice; EAC Standards Board

AGENCY: U.S. Election Assistance Commission.

ACTION: Notice of public meeting for EAC Standards Board.

DATE AND TIME: Thursday, April 27, 2017, 8:30 a.m.-5:00 p.m. and Friday, April 28, 2017, 8:00-11:00 a.m. [Executive Board Session: Thursday, April 27, 2017, 7:30 p.m. (administrative business only)]

PLACE: The Westin Riverwalk, 420 West Market Street, San Antonio, TX 78205, Phone: (210) 224-6500.

PURPOSE: In accordance with the Federal Advisory Committee Act (FACA), Public Law 92-463, as amended (5 U.S.C. Appendix 2), the U.S. Election Assistance Commission (EAC) Standards Board will meet to address its responsibilities under the Help America Vote Act of 2002 (HAVA), to present its views on issues in the administration of Federal elections, formulate recommendations to the EAC, and receive updates on EAC activities.

AGENDA: The Standards Board will receive an overview and updates on EAC agency operations. The Board will receive panel briefings on issues associated with military and overseas voters, vote-by-mail balloting, and election cyber security. Panel members will include election officials and stakeholders, and representatives from the Counsel of State Governments (CSG), the Federal Voting Assistance Program (FVAP), the United States Postal Service (USPS), and the Department of Homeland Security (DHS). The Standards Board will receive updates on the recommendations from EAC's Technical Guidelines Development Committee (TGDC) on the Voluntary Voting System Guidelines (VVSG) 2.0. The Standards Board will hold a discussion on the TGDC's VVSG recommendations.

The Standards Board will conduct committee breakout sessions and hear committee reports. The Standards Board will fill vacancies on the Executive Board of the Standards Board. The Standards Board will elect new officers, and the Executive Board will appoint Standards Board committee members and chairs, and consider other administrative matters.

SUPPLEMENTARY: Members of the public may submit relevant written statements to the Standards Board with respect to the meeting no later than 5:00 p.m. EDT on Thursday, April 20, 2017. Statements may be sent via email at facaboards@eac.gov, via standard mail addressed to the U.S. Election Assistance Commission, 1335 East West Highway, Suite 4300, Silver Spring, MD 20910, or by fax at 301-734-3108.

This meeting will be open to the public.

PERSON TO CONTACT FOR INFORMATION: Bryan Whitener, Telephone: (301) 563-3961.

Bryan Whitener,
Director, National Clearinghouse on Elections, U.S. Election Assistance Commission.

[FR Doc. 2017-07401 Filed 4-11-17; 8:45 am]

BILLING CODE 6820-KF-P